INTERNATIONAL TRADE COMMISSION

[Investigation Nos. 731-TA-308-310 and 520-521 (Fifth Review)]

Carbon Steel Butt-Weld Pipe Fittings From Brazil, China, Japan, Taiwan, and Thailand

Determinations

On the basis of the record ¹ developed in the subject five-year reviews, the United States International Trade Commission (“Commission”) determines, pursuant to the Tariff Act of 1930 (“the Act”), that revocation of the antidumping duty orders on carbon steel butt-weld pipe fittings from Brazil, China, Japan, Taiwan, and Thailand would be likely to lead to continuation or recurrence of material injury to an industry in the United States within a reasonably foreseeable time.

¹ The record is defined in § 207.2(f) of the Commission's Rules of Practice and Procedure (19 CFR 207.2(f)).

Background

The Commission instituted these reviews on July 1, 2021 (86 FR 35133) and determined on October 4, 2021 that it would conduct expedited reviews (86 FR 72620, December 22, 2021).

The Commission made these determinations pursuant to section 751(c) of the Act (19 U.S.C. 1675(c)). It completed and filed its determinations in these reviews on February 2, 2022. The views of the Commission are contained in USITC Publication 5276 (February 2022), entitled Carbon Steel Butt-Weld Pipe Fittings from Brazil, China, Japan, Taiwan, and Thailand: Investigation Nos. 731 TA 308-310 and 520-521 (Fifth Review).

By order of the Commission.
Issued: February 2, 2022.
Lisa Barton,
Secretary to the Commission.

[FR Doc. 2022-02477 Filed 2-4-22; 8:45 am]

BILLING CODE 7020-02-P